DEPARTMENT OF HEALTH AND HUMAN SERVICES

National Institutes of Health

Center for Scientific Review; Amended Notice of Meeting

Notice is hereby given of a change in the meeting of the Center for Scientific Review Special Emphasis Panel, July 28, 2009, 11 a.m. to July 28, 2009, 3 p.m., National Institutes of Health, 6701 Rockledge Drive, Bethesda, MD, 20892 which was published in the Federal Register on June 26, 2009, 74 FR 30595-30596.

This meeting will be an AED held on July 27, 2009, 9 a.m. to July 28, 2009, 11:55 p.m. The meeting location remains the same. The meeting is closed to the public.

Dated: July 20, 2009.
Jennifer Spaeth,
Director, Office of Federal Advisory Committee Policy.

[FR Doc. E9-17738 Filed 7-23-09; 8:45 am]

BILLING CODE 4140-01-P